DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Increasing Donor Awareness on College Campuses: New

Despite apparent widespread public support for organ donation and transplantation, few individuals in the United States declare intent to be organ and tissue donors. Innovative interventions are necessary to help individuals move from positive attitudes about organ donation to the behaviors of declaring intent and informing family of that intent. The goal of the current project is to develop, implement and evaluate a donor awareness program on college and university campuses. The specific aim of the study is to evaluate the effect of a 6-month college-wide intervention program on organ donation intentions. An experimental design will be used consisting of two pairs of colleges matched on variables including freshman class size, geographic region, and cultural diversity of the student body. The study will use a 2 (Intervention × Control) by 2 (baseline and follow-up assessment) repeated measures design. To increase donor awareness, intervention schools will receive a “how to kit” to aid them in implementing a campus-wide donor campaign. This kit will provide materials and activities, and serve as a guide for initiating an organ and tissue donor awareness campaign. The kits will be standardized across schools. Donation intentions and other variables of interest will be assessed by means of self-administered questionnaires completed by a sample of students at each university at two time periods, prior to and following the 6-month intervention period. The frequency of students declaring intent to donate organs and documenting that intent via college student identification cards or donor cards is the primary outcome measure. The frequency of students reporting that they have informed family members of their donation intent also will be evaluated. In addition, secondary and process outcomes (e.g., levels of readiness to become an organ donor) will be assessed.

The estimated respondent burden is as follows:

Survey phase | No. of Respondents | Responses per respondent | Total responses | Average time per response | Total burden hours
Baseline | 4,000 | 1 | 4,000 | .3 | 680
Followup | 2,800 | 1 | 2,800 | .3 | 476
Total | 4,000 |  | 6,800 |  | 1,156

Written comments and recommendations concerning the proposed information collection should be sent within 30 days of this notice to: John Morrall, Human Resources and Housing Branch, Office of Management and Budget, New Executive Office Building, Room 10235, Washington, DC 20503.

Dated: June 23, 2000.
Jane Harrison,
Director, Division of Policy Review and Coordination.

[FR Doc. 00-16551 Filed 6-29-00; 8:45 am]

BILLING CODE 4160-15-P